FEDERAL COMMUNICATIONS COMMISSION

[DA 03-3389]

Definition of Payphone Customer

AGENCY: Federal Communications Commission.

ACTION: Notice; termination of proceeding.

SUMMARY: This document provides notice of the termination of the petition for reconsideration and joint motion to dismiss a 1993 Common Carrier Bureau order regarding the classification of payphone providers as customers pursuant to AT&T's F.C.C. Tariff No. 1. A settlement agreement between the parties and the passage of time have mooted the issues in the proceeding.

DATES: This proceeding will be terminated effective December 5, 2003, unless the Wireline Competition Bureau receives an opposition to the termination prior to that date.

ADDRESSES: Oppositions to the proceeding termination should be mailed to the Commission's Secretary through the Commission's contractor, Natek, Inc., at 236 Massachusetts Avenue, NE., Suite 110, Washington, DC 20002.

FOR FURTHER INFORMATION CONTACT: Jennifer McKee, Wireline Competition Bureau, Pricing Policy Division, (202) 418-1530.

SUPPLEMENTARY INFORMATION: On November 15, 1993, the Common Carrier Bureau (now the Wireline Competition Bureau) released an order in the above-referenced proceeding determining that the payphone petitioners Atlantic Telco and Tel & Tel Payphones were not customers for purposes of AT&T's Tariff No. 1. On December 15, 1993, AT&T filed a petition for reconsideration of this order. Subsequently, AT&T and the payphone petitioners entered into a settlement of the dispute underlying the petitioners' request for declaratory ruling, and on April 14, 1994, the parties filed a joint motion to vacate the Bureau's order. In the joint motion, the parties assert that their settlement agreement precludes reconsideration of the Bureau's order and ask the Commission to dismiss the proceeding. We construe the joint motion as a request to withdraw AT&T's petition for reconsideration, and therefore AT&T's petition for reconsideration is dismissed without prejudice. 47 CFR 1.748. The parties' settlement agreement and the passage of time have mooted the remaining issue in this proceeding, the parties' motion to vacate the Bureau's order. Therefore, this proceeding will be terminated effective December 5, 2003, unless the Wireline Competition Bureau receives an opposition to the termination before that date.

Parties filing oppositions to the termination of this proceeding must file an original and four copies of each filing. The filings should reference the DA number of this Public Notice, DA 03-3389. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

• The filing hours at this location are 8 a.m. to 7 p.m.

• All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

• All filings must be addressed to the Commission's Secretary, Office of the Secretary, Federal Communications Commission. Parties are also requested to send a courtesy copy of their oppositions to Jennifer McKee, Pricing Policy Division, Wireline Competition Bureau, Federal Communications Commission. Courtesy copies may also be sent via e-mail to jennifer.mckee@fcc.gov.

Authority: 47 U.S.C. 152, 153, 154, 155, 303, 307, 308, 309, 315, 317; 44 FR 18501, 67 FR 13223, 47 CFR 0.291, 1.749.

Federal Communications Commission.
William F. Maher, Jr.,
Chief, Wireline Competition Bureau.

[FR Doc. 03-27814 Filed 11-4-03; 8:45 am]

BILLING CODE 6712-01-P